DEPARTMENT OF AGRICULTURE

Food and Nutrition Service

Agency Information Collection Activities: Proposed Collection;

Comment Request—Enhancing Completion Rates for Supplemental Nutrition Assistance Program (SNAP) Quality Control Reviews; Correction

AGENCY: Food and Nutrition Service (FNS), USDA.

ACTION: Notice; correction.

SUMMARY: The Food and Nutrition Service is correcting this notice, which invites the general public and other public agencies to comment on this proposed information collection. This notice was published in the Federal Register on July 26, 2013. This notice corrects where and to whom the comments are to be sent.

DATES: Written comments must be received on or before September 24, 2013.

ADDRESSES: Comments should be sent to Richard Lucas, Office of Policy Support, Food and Nutrition Service, U.S. Department of Agriculture, 3101 Park Center Drive, Room 1014, Alexandria, VA 22302. Comments may also be submitted via fax to the attention of Richard Lucas at 703-305-2576 or via email to Richard.Lucas@fns.usda.gov. Comments will also be accepted through the Federal eRulemaking Portal. Go to http://www.regulations.gov, and follow the online instructions for submitting comments electronically.

All written comments will be open for public inspection at the office of the Food and Nutrition Service during regular business hours (8:30 a.m. to 5:00 p.m. Monday through Friday) at 3101 Park Center Drive, Room 1014, Alexandria, VA 22302.

FOR FURTHER INFORMATION CONTACT: Requests for additional information or copies of this information collection should be directed to Richard Lucas at 703-305-2017.

SUPPLEMENTARY INFORMATION: This notice corrects the contact person published in this proposed information collection in the Federal Register (Volume 78, FR 45173, July 26, 2013).

Dated: August 2, 2013.
Audrey Rowe,
Administrator, Food and Nutrition Service.

[FR Doc. 2013-19064 Filed 8-6-13; 8:45 am]

BILLING CODE 3410-30-P